DEPARTMENT OF AGRICULTURE

U.S. Codex Office

Codex Alimentarius Commission: Public Meetings of the Codex Alimentarius Commission: Meeting of the Committee on Contaminants in Foods; the Committee on Food Import and Export Certification and Inspection Systems; the Codex Committee on Methods of Analysis and Sampling, and the Committee on Residues of Veterinary Drugs in Foods

AGENCY: U.S. Codex Office, USDA.

ACTION: Notice of public meeting changes.

SUMMARY: Due to circumstances related to the outbreak of the Coronavirus (COVID-19), USDA is publishing this notice to announce that arrangements have been changed to make the public meetings conducted by telephone conference only.

FOR FURTHER INFORMATION CONTACT: Doreen Chen-Moulec at 202-720-4063 or Mary Frances Lowe at 202-205-7760; U.S. Codex Office, 1400 Independence Avenue SW, Room 4861, South Agriculture Building, Washington, DC 20250. Phone: (202) 205 7760, Fax: (202) 720-3157, Email: uscodex@usda.gov.

SUPPLEMENTARY INFORMATION: The U.S. Codex Office is publishing this notice to announce that arrangements for the public meetings for the Codex Alimentarius Commission: Meeting of the Codex Committee on Contaminants in Food (March 23, 2020) (85 FR 11047), Codex Alimentarius Commission: Meeting of the Committee on Food Import and Export Certification and Inspection Systems (March 25, 2020) (85 FR 12887), and Codex Alimentarius Commission: Meeting of the Committee on Methods if Analysis and Sampling (April 16, 2020) (85 FR 10399), have changed and will be conducted by telephone conference only to be consistent with public health guidance related to outbreaks of novel coronavirus (COVID19). The arrangement for the public meeting of Codex Alimentarius Commission: Meeting of the Codex Committee on Residues of Veterinary Drugs in Foods (April 30, 2020) (85 FR 13822) will be also be conducted by telephone conference only for the same reason. Please find information on the schedule, telephone conference number and passcode for public meetings at the following address: www.usda.gov/topics/trade/international-food-standards/codex-federal-register-notices-and-public-meetings. Please note that the documents related to these public meetings will remain accessible via the internet at the following address: www.codexalimentarius.org/meetings-reports/en.

Done at Washington, DC, on March 17, 2020.
Mary Lowe,
U.S. Manager for Codex Alimentarius.

[FR Doc. 2020-06067 Filed 3-20-20; 8:45 am]

BILLING CODE P